DEPARTMENT OF STATE

[Public Notice: 12233]

Determination Under Section 620(q) of the Foreign Assistance Act of 1961 Relating to Assistance for Uzbekistan and Romania

Pursuant to the authority vested in me by section 620(q) of the Foreign Assistance Act of 1961 (FAA), Executive Order 12163, and Department of State Delegation of Authority 513, I hereby determine that assistance for Uzbekistan and Romania is in the national interest of the United States and thereby waive the application of section 620(q) of the FAA with respect to such assistance.

This determination shall be published in the Federal Register and, with the accompanying Memorandum of Justification, shall be transmitted to Congress.

Dated: June 30, 2023.
Wendy R. Sherman,
Deputy Secretary of State.

[FR Doc. 2023-23719 Filed 10-26-23; 8:45 am]

BILLING CODE 4710-23-P